DEPARTMENT OF ENERGY

Federal Energy Regulatory Commission

Combined Notice of Filings

Take notice that the Commission has received the following Natural Gas & Oil Pipeline Rate and Refund Report filings:

Filings Instituting Proceedings

Docket Numbers: RP23-517-000.

Applicants: Rover Pipeline LLC.

Description: Rover Pipeline, LLC submits Response to FERC's March 29, 2023, Data Request.

Filed Date: 4/3/23.

Accession Number: 20230403-5297.

Comment Date: 5 p.m. ET 4/17/23.

Docket Numbers: RP23-670-000.

Applicants: Gulf South Pipeline Company, LLC.

Description: § 4(d) Rate Filing: Cap Rel Neg Rate Agmt (Osaka 46429 to Texla 56258) to be effective 4/1/2023.

Filed Date: 4/3/23.

Accession Number: 20230403-5183.

Comment Date: 5 p.m. ET 4/17/23.

Docket Numbers: RP23-671-000.

Applicants: Texas Eastern Transmission, LP.

Description: § 4(d) Rate Filing: Negotiated Rate Agreements—Castleton 911826 and 911827 eff 4-1-23 to be effective 4/1/2023.

Filed Date: 4/3/23.

Accession Number: 20230403-5274.

Comment Date: 5 p.m. ET 4/17/23.

Docket Numbers: RP23-672-000.

Applicants: Texas Eastern Transmission, LP.

Description: § 4(d) Rate Filing: Negotiated Rates—Vitol 911898 and 911899 eff 4-1-23 to be effective 4/1/2023.

Filed Date: 4/4/23.

Accession Number: 20230404-5030.

Comment Date: 5 p.m. ET 4/17/23.

Docket Numbers: RP23-673-000.

Applicants: Texas Eastern Transmission, LP.

Description: § 4(d) Rate Filing: Negotiated Rates—Releases from Morg Stan 8947599 eff 4-1-23 to be effective 4/1/2023.

Filed Date: 4/4/23.

Accession Number: 20230404-5040.

Comment Date: 5 p.m. ET 4/17/23.

Docket Numbers: RP23-674-000.

Applicants: Rover Pipeline LLC.

Description: § 4(d) Rate Filing: Summary of Negotiated Rate Capacity Release Agreements 4-4-23 to be effective 4/1/2023.

Filed Date: 4/4/23.

Accession Number: 20230404-5096.

Comment Date: 5 p.m. ET 4/17/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 4, 2023.
Debbie-Anne A. Reese,
Deputy Secretary.

[FR Doc. 2023-07447 Filed 4-7-23; 8:45 am]

BILLING CODE 6717-01-P